DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸Elevation in meters (MSL) Modified | Communities affected
Maricopa County, Arizona, and Incorporated Areas | Docket No.: FEMA-B-1216
Bonita Dike Channel | Approximately 100 feet upstream of the Wash 13 East confluence | +1409 | Unincorporated Areas of Maricopa County.
| Approximately 1,500 feet upstream of the Wash 13 East confluence | +1418
Camp Creek Tributary A | At the downstream limit of detailed study | +2249 | City of Scottsdale, Unincorporated Areas of Maricopa County.
| Approximately 1,300 feet upstream of 136th Avenue | +2717
Camp Creek Tributary A1 | Approximately 500 feet upstream of the Camp Creek Tributary A confluence | +2325 | Unincorporated Areas of Maricopa County.
| Approximately 1.0 mile upstream of the Camp Creek Tributary A confluence | +2492
Camp Creek Tributary A2 | Approximately 300 feet upstream of the Camp Creek Tributary A confluence | +2517 | Unincorporated Areas of Maricopa County.
| Approximately 400 feet upstream of Hawknest Road | +2599
Camp Creek Tributary B | At the downstream limit of detailed study | +2263 | City of Scottsdale, Unincorporated Areas of Maricopa County.
| Approximately 0.9 mile upstream of 136th Avenue | +2816
Camp Creek Tributary B1 | Approximately 600 feet upstream of the Camp Creek Tributary B confluence | +2366 | Unincorporated Areas of Maricopa County.
| Approximately 1.4 miles upstream of the Camp Creek Tributary B confluence | +2598
Camp Creek Tributary B2 | Approximately 600 feet upstream of the Camp Creek Tributary B confluence | +2612 | Unincorporated Areas of Maricopa County.
| Approximately 1.0 mile upstream of the Camp Creek Tributary B confluence | +2746
Camp Creek Tributary C | At the downstream limit of detailed study | +2443 | Unincorporated Areas of Maricopa County.
| Approximately 0.9 mile upstream of the Camp Creek Tributary C3 confluence | +2996
Camp Creek Tributary C1 | Approximately 500 feet upstream of the Camp Creek Tributary C confluence | +2558 | Unincorporated Areas of Maricopa County.
| Approximately 1.3 miles upstream of the Camp Creek Tributary C confluence | +2857
Camp Creek Tributary C2 | Approximately 400 feet upstream of the Camp Creek Tributary C confluence | +2767 | Unincorporated Areas of Maricopa County.
| Approximately 1.0 mile upstream of the Camp Creek Tributary C confluence | +2937
Camp Creek Tributary C3 | Approximately 700 feet upstream of the Camp Creek Tributary C confluence | +2881 | Unincorporated Areas of Maricopa County.
| Approximately 0.7 mile upstream of the Camp Creek Tributary C confluence | +2997
Camp Creek Tributary D | Approximately 600 feet upstream of the Camp Creek Tributary C confluence | +2473 | Unincorporated Areas of Maricopa County.
| Approximately 0.6 mile upstream of the Camp Creek Tributary C confluence | +2605
Circle City Area Wash 1 | Approximately 1.2 miles downstream of Black Mountain Road | +1782 | Unincorporated Areas of Maricopa County.
| At the upstream side of Black Mountain Road | +1846
Fan 6A | At the downstream limit of detailed study | +2495 | City of Scottsdale.
| At the upstream limit of detailed study | +2542
Fan 6A North | Approximately 500 feet downstream of Preserve Way | +2542 | City of Scottsdale.
| Approximately 500 feet upstream of North Boulder View Drive | +3059
Fan 6A South | Approximately 700 feet downstream of Preserve Way | +2549 | City of Scottsdale.
| Approximately 1,100 feet upstream of East Stagecoach Pass Road | +2843
Fan 6C | Approximately 400 feet upstream of East Dove Valley Road | +2390 | City of Scottsdale.
| Approximately 700 feet upstream of North Legend Trail Parkway | +2654
Fan 6C North Branch | Approximately 300 feet downstream of North 84th Street | +2407 | City of Scottsdale.
| Approximately 1,300 feet upstream of North 84th Street | +2452
Iona Wash | Approximately 0.4 mile upstream of the Central Arizona Project Canal | +1555 | Town of Surprise, Unincorporated Areas of Maricopa County.
| Approximately 2.1 miles upstream of U.S. Route 60 | +2039
Iona Wash East | Approximately 1,400 feet downstream of Deer Valley Road | +1464 | Town of Surprise.
| Approximately 1.3 miles upstream of Pinnacle Peak Road | +1544
Iona Wash East Split 1 | Approximately 1,000 feet upstream of the Trilby Wash confluence | +1612 | Unincorporated Areas of Maricopa County.
| At the Iona Wash divergence | +1824
Iona Wash East Split 2 | Approximately 1,900 feet upstream of the Iona Wash confluence | +1556 | Town of Surprise, Unincorporated Areas of Maricopa County.
| At the Iona Wash divergence | +1615
Iona Wash North West Split 1 | Approximately 500 feet upstream of the Iona Wash confluence | +2007 | Unincorporated Areas of Maricopa County.
| At the Iona Wash divergence | +2033
Iona Wash West | Approximately 0.6 mile downstream of Deer Valley Road | +1461 | Town of Surprise.
| At the Iona Wash East divergence | +1523
Jackrabbit Wash | At the Hassayampa River confluence | +1113 | Town of Buckeye, Unincorporated Areas of Maricopa County.
| Approximately 900 feet upstream of the Central Arizona Project Canal | +1372
Multiple Shallow Flooding Sources | At the upstream side of I-10 | +1394 | Unincorporated Areas of Maricopa County.
Multiple Shallow Flooding Sources | At the upstream side of the Central Arizona Project Canal | +1532 | City of Peoria.
New River West Tributary 10 | Approximately 0.5 mile upstream of the New River confluence | +1497 | City of Peoria, City of Phoenix, Unincorporated Areas of Maricopa County.
| Approximately 0.4 mile upstream of Lake Pleasant Road | +1598
New River West Tributary 15 | Approximately 0.5 mile upstream of the New River confluence | +1500 | City of Peoria, City of Phoenix.
| At the upstream limit of detailed study | +1572
New River West Tributary 20 | Approximately 0.5 mile downstream of Old Carefree Highway | +1537 | City of Peoria, City of Phoenix.
| Approximately 0.6 mile upstream of New River Road | +1653
New River West Tributary 20, Tributary 10 | Approximately 400 feet upstream of the New River West Tributary 20 confluence | +1573 | City of Peoria, City of Phoenix.
| Approximately 0.4 mile upstream of New River Road | +1622
New River West Tributary 20, Tributary 5 | Approximately 400 feet upstream of the New River West Tributary 20 Tributary 10 confluence | +1590 | City of Peoria.
| Approximately 0.4 mile upstream of New River Road | +1618
New River West Tributary 25 | Approximately 2,000 feet upstream of the New River confluence | +1554 | City of Peoria, City of Phoenix.
| Approximately 1.2 miles upstream of the New River confluence | +1598
New River West Tributary 30 | Approximately 1,000 feet upstream of the New River West Split confluence | +1569 | City of Peoria, City of Phoenix, Unincorporated Areas of Maricopa County.
| Approximately 700 feet upstream of New River Road | +1675
New River West Tributary 35 | Approximately 600 feet upstream of the New River West Split confluence | +1585 | City of Phoenix.
| Approximately 1.0 mile upstream of the New River West Split confluence | +1643
New River West Tributary 40 | Approximately 1,000 feet upstream of the Sweat Canyon Wash confluence | +1625 | City of Peoria, City of Phoenix.
| Approximately 0.7 mile upstream of the Sweat Canyon Wash confluence | +1663
New River West Tributary 45 | Approximately 500 feet upstream of the Sweat Canyon Wash confluence | +1639 | City of Peoria, City of Phoenix.
| Approximately 1,800 feet upstream of New River Road | +1707
New River West Tributary 5 | Approximately 0.6 mile upstream of the New River confluence | +1482 | City of Peoria.
| Approximately 0.7 mile upstream of Old Carefree Highway | +1608
New River West Tributary 50 | Approximately 600 feet upstream of the Sweat Canyon Wash confluence | +1646 | City of Peoria, City of Phoenix.
| Approximately 0.4 mile upstream of New River Road | +1731
New River West Tributary 50, Tributary 5 | Approximately 200 feet upstream of the New River West Tributary 50 confluence | +1677 | City of Peoria, City of Phoenix.
| Approximately 0.5 mile upstream of New River Road | +1730
New River West Tributary 55 | Approximately 560 feet downstream of New River Road | +1657 | City of Phoenix.
| At the upstream limit of detailed study | +1784
New River West Tributary 55, Tributary 10 | Approximately 700 feet upstream of the New River West Tributary 55 confluence | +1665 | City of Peoria, City of Phoenix.
| Approximately 1.8 miles upstream of the New River West Tributary 55 Tributary 5 confluence | +1916
New River West Tributary 55, Tributary 15 | At the New River West Tributary 55 confluence | +1688 | City of Peoria, City of Phoenix.
| Approximately 1.4 miles upstream of KV Power Road | +1882
New River West Tributary 55, Tributary 20 | Approximately 400 feet upstream of the New River West Tributary 55 confluence | +1708 | City of Phoenix.
| At the upstream limit of detailed study | +1747
New River West Tributary 55, Tributary 30 | Approximately 600 feet upstream of the New River West Tributary 55 confluence | +1680 | City of Phoenix.
| Approximately 0.5 mile upstream of Saddle Mountain Road | +1714
New River West Tributary 55, Tributary 5 | Approximately 600 feet upstream of the New River West Tributary 55 Tributary 10 confluence | +1735 | City of Peoria.
| Approximately 0.6 mile upstream of the New River West Tributary 55 Tributary 10 confluence | +1776
Shallow Flooding | At the upstream side of I-10 | +1364 | Unincorporated Areas of Maricopa County.
Shallow Flooding | At the upstream side of I-10 | +1371 | Unincorporated Areas of Maricopa County.
Shallow Flooding | At the upstream side of I-10 | +1375 | Unincorporated Areas of Maricopa County.
Shallow Flooding | At the upstream side of I-10 | +1382 | Unincorporated Areas of Maricopa County.
Shallow Flooding | At the upstream side of I-10 | +1389 | Unincorporated Areas of Maricopa County.
Shallow Flooding | At the upstream side of I-10 | +1393 | Unincorporated Areas of Maricopa County.
Shallow Flooding | At 243rd Avenue | #1 | Unincorporated Areas of Maricopa County.
Shallow Flooding | At the upstream side of the Central Arizona Project Canal | +1531 | City of Peoria.
Shallow Flooding | At upstream side of the Central Arizona Project Canal | +1545 | Town of Surprise.
Shallow Flooding | At the upstream side of the Central Arizona Project Canal | +1550 | City of Peoria, Unincorporated Areas of Maricopa County.
Shallow Flooding | At the upstream side of the Central Arizona Project Canal | +1552 | Unincorporated Areas of Maricopa County.
Shallow Flooding | At the upstream side of the Central Arizona Project Canal | +1553 | Unincorporated Areas of Maricopa County.
Shallow Flooding | At the upstream side of the Central Arizona Project Canal | +1553 | Town of Surprise.
Shallow Flooding | At the upstream side of the Central Arizona Project Canal | +1555 | Town of Surprise, Unincorporated Areas of Maricopa County.
Stage Coach Pass Wash | At the upstream side of Scottsdale Road | +2270 | City of Scottsdale, Town of Carefree.
| At the downstream side of North Lone Mountain Parkway | +2962
Trilby Wash | Approximately 1.1 miles upstream of U.S. Route 60 | +1921 | Unincorporated Areas of Maricopa County.
| Approximately 2.1 miles upstream of U.S. Route 60 | +1994
Upper Boulders Wash | At the downstream side of Winfield Drive | +2315 | City of Scottsdale.
| Approximately 2,000 feet upstream of North Legend Trail Parkway | +2667
Upper Fan 5 | Approximately 700 feet downstream of North Pima Road | +2397 | City of Scottsdale.
| Approximately 2.0 miles upstream of East Seven Palms Drive | +2770
Wash 1 East | Approximately 460 feet upstream of the Wash 1 West confluence | +1495 | Town of Surprise, Unincorporated Areas of Maricopa County.
| At the downstream side of the Central Arizona Project Canal | +1543
Wash 1 West | Approximately 0.5 mile downstream of West Deer Valley Road | +1351 | Town of Surprise, Unincorporated Areas of Maricopa County.
| Approximately 0.5 mile upstream of West Patton Road | +1552
Wash 10 East | Approximately 1.0 mile downstream of Briles Road | +1357 | Town of Surprise, Unincorporated Areas of Maricopa County.
| At the downstream side of the Central Arizona Project Canal | +1540
Wash 10 East Split 1 | At the upstream side of Skinner Road | +1493 | Town of Surprise, Unincorporated Areas of Maricopa County.
| At the Wash 10 East divergence | +1528
Wash 10 East Split 2 | Approximately 0.8 mile downstream of Briles Road | +1359 | Town of Surprise, Unincorporated Areas of Maricopa County.
| At the Wash 10 East divergence | +1455
Wash 11 East | Approximately 600 feet upstream of the Beardsley Canal | +1348 | Town of Surprise, Unincorporated Areas of Maricopa County.
| At the downstream side of the Central Arizona Project Canal | +1535
Wash 12 East | Approximately 700 feet downstream of West Dynamite Boulevard | +1440 | City of Peoria, Unincorporated Areas of Maricopa County.
| At the downstream side of the Central Arizona Project Canal | +1536
Wash 12 East Split | At the Wash 12 East confluence | +1492 | Town of Surprise, Unincorporated Areas of Maricopa County.
| At the Wash 12 East divergence | +1514
Wash 13 East | Approximately 1,400 feet downstream of Jomax Road | +1372 | Town of Surprise, Unincorporated Areas of Maricopa County.
| At the downstream side of West Dynamite Boulevard | +1423
Wash 14 East | At the Wash 13 East confluence | +1401 | Unincorporated Areas of Maricopa County.
| Approximately 0.5 mile upstream of the Wash 13 East confluence | +1417
Wash 2 East (North of the Central Arizona Project Canal) | Approximately 400 feet downstream of West Lone Mountain Road | +1608 | Town of Surprise, Unincorporated Areas of Maricopa County.
| Approximately 400 feet upstream of West Dove Valley Road | +1679
Wash 2 East (South of the Central Arizona Project Canal) | Approximately 0.4 mile downstream of North Citrus Road | +1391 | Town of Surprise, Unincorporated Areas of Maricopa County.
| Approximately 1.3 miles upstream of U.S. Route 60 | +1536
Wash 2 East Tributary | Approximately 600 feet downstream of West Lone Mountain Road | +1606 | Town of Surprise, Unincorporated Areas of Maricopa County.
| Approximately 500 feet upstream of West Dove Valley Road | +1675
Wash 2 West (North of the Central Arizona Project Canal) | At the upstream side of the Central Arizona Project Canal | +1554 | Town of Surprise, Unincorporated Areas of Maricopa County.
| Approximately 200 feet upstream of 227th Avenue | +1671
Wash 2 West (South of the Central Arizona Project Canal) | Approximately 1.6 miles downstream of West Deer Valley Road | +1352 | Town of Surprise, Unincorporated Areas of Maricopa County.
| At the downstream side of the Central Arizona Project Canal | +1546
Wash 2 West Tributary 1 | Approximately 1,500 feet upstream of the Wash 2 West confluence | +1585 | Unincorporated Areas of Maricopa County.
| Approximately 1,300 feet upstream of West Dove Valley Road | +1720
Wash 2 West Tributary 2 | Approximately 0.4 mile downstream of Patton Road | +1552 | Unincorporated Areas of Maricopa County.
| Approximately 1,100 feet upstream of West Lone Mountain Road | +1662
Wash 3 East | Approximately 0.6 mile downstream of West Deer Valley Road | +1353 | Town of Surprise, Unincorporated Areas of Maricopa County.
| At the downstream side of the Central Arizona Project Canal | +1542
Wash 3 West | Approximately 1,900 feet downstream of 243rd Avenue | +1546 | Town of Surprise, Unincorporated Areas of Maricopa County.
| Approximately 2.4 miles upstream of West Patton road | +1745
Wash 4 East | Approximately 1,900 feet upstream of the Wash 3 East confluence | +1457 | Town of Surprise, Unincorporated Areas of Maricopa County.
| At the downstream side of the Central Arizona Project Canal | +1545
Wash 5 East | At the downstream side of 163rd Avenue | +1390 | Town of Surprise, Unincorporated Areas of Maricopa County.
| At the downstream side of the Central Arizona Project Canal | +1543
Wash 6 East | Approximately 1,100 feet downstream of 163rd Avenue | +1412 | Town of Surprise, Unincorporated Areas of Maricopa County.
| At the downstream side of the Central Arizona Project Canal | +1544
Wash 6 East South | At the downstream limit of detailed study | +1374 | Town of Surprise, Unincorporated Areas of Maricopa County.
| At the Wash 6 East and Wash 8 East confluence | +1417
Wash 7 East | Approximately 1,000 feet upstream of the Central Arizona Project Canal | +1556 | Unincorporated Areas of Maricopa County.
| Approximately 0.8 mile upstream of the Central Arizona Project Canal | +1586
Wash 7 East East Split | Approximately 1,100 feet upstream of the Wash 8 East confluence | +1483 | Town of Surprise, Unincorporated Areas of Maricopa County.
| At the Wash 7 East West Split divergence | +1530
Wash 7 East Tributary | Approximately 1,000 feet downstream of 169th Avenue | +1560 | Unincorporated Areas of Maricopa County.
| Approximately 0.5 mile upstream of Quail Run Road | +1638
Wash 7 East West Split | Approximately 1,100 feet upstream of the Wash 6 East confluence | +1508 | Town of Surprise, Unincorporated Areas of Maricopa County.
| At the downstream side of the Central Arizona Project Canal | +1543
Wash 8 East | At the Wash 6 East confluence | +1419 | Town of Surprise, Unincorporated Areas of Maricopa County.
| Approximately 400 feet upstream of West Windstone Trail | +1542
Wash 9 East | Approximately 0.9 mile downstream of West Jomax Road | +1376 | Town of Surprise, Unincorporated Areas of Maricopa County.
| Approximately 600 feet upstream of West Windstone Trail | +1540
Wash 9 East Split | At the Wash 9 East confluence | +1428 | Unincorporated Areas of Maricopa County.
| At the Wash 9 East divergence | +1447
Wash T2N-R5W-S27N | At the Hassayampa River confluence | +1056 | Unincorporated Areas of Maricopa County.
| At the Jackrabbit Wash divergence | +1165
Wash T4N-R3W-S07W | Approximately 1,000 feet upstream of the Wash T4N-R3W-S17 confluence | +1599 | Unincorporated Areas of Maricopa County.
| Approximately 1.8 miles upstream of the Wash T4N-R3W-S17 confluence | +1657
Wash T4N-R3W-S08E | Approximately 500 feet upstream of the Wash 3 West confluence | +1565 | Unincorporated Areas of Maricopa County.
| Approximately 200 feet upstream of 259th Avenue | +1725
Wash T4N-R3W-S08W | Approximately 300 feet upstream of the Wash 3 West confluence | +1576 | Unincorporated Areas of Maricopa County.
| Approximately 600 feet upstream of 255th Avenue | +1684
Wash T4N-R3W-S09W | Approximately 200 feet upstream of the Wash 3 West confluence | +1561 | Town of Surprise, Unincorporated Areas of Maricopa County.
| At the downstream side of West Patton Road | +1647
Wash T4N-R3W-S10N | Approximately 1,200 feet upstream of the Central Arizona Project Canal | +1554 | Town of Surprise, Unincorporated Areas of Maricopa County.
| At the downstream side of West Jomax Road | +1594
Wash T4N-R3W-S10W Reach 1 | Approximately 1,000 feet upstream of the Central Arizona Project Canal | +1545 | Town of Surprise.
| Approximately 1.2 miles upstream of the Central Arizona Project Canal | +1571
Wash T4N-R3W-S10W Reach 2 | Approximately 1,200 feet upstream of the Central Arizona Project Canal | +1545 | Town of Surprise.
| Approximately 0.6 mile upstream of the Central Arizona Project Canal | +1556
Wash T4N-R3W-S17 | Approximately 800 feet upstream of the Wash T4N-R3W-S18W confluence | +1555 | Town of Surprise, Unincorporated Areas of Maricopa County.
| Approximately 1.6 miles upstream of 251st Avenue | +1633
Wash T4N-R3W-S18E | Approximately 1,200 feet upstream of the Wash T4N-R3W-S18W confluence | +1569 | Town of Buckeye, Town of Surprise, Unincorporated Areas of Maricopa County.
| Approximately 0.5 mile upstream of West Patton Road | +1697
Wash T4N-R3W-S18W | Approximately 1,800 feet downstream of 243rd Avenue | +1547 | Town of Buckeye, Town of Surprise, Unincorporated Areas of Maricopa County.
| Approximately 2.8 miles upstream of 251st Avenue | +1637
Wash T5N-R2W-S07 | Approximately 1,200 feet upstream of the Wash T5N-R2W-S19W confluence | +1735 | Unincorporated Areas of Maricopa County.
| Approximately 1,800 feet upstream of West Galvin Street | +1808
Wash T5N-R2W-S19E | At the downstream limit of detailed study | +1602 | Town of Surprise, Unincorporated Areas of Maricopa County.
| At the downstream side of West Dove Valley Road | +1694
Wash T5N-R2W-S19W | At the downstream limit of detailed study | +1628 | Town of Surprise, Unincorporated Areas of Maricopa County.
| At the upstream side of West Cloud Road | +1823
Wash T5N-R3W-S01S | Approximately 0.4 mile upstream of the Wash T5N-R2W-S07 confluence | +1793 | Unincorporated Areas of Maricopa County.
| At the upstream side of West Cloud Road | +1821
Wash T5N-R3W-S19 | Approximately 1,000 feet upstream of the Wash T4N-R3W-S08E confluence | +1715 | Unincorporated Areas of Maricopa County.
| At the downstream side of West Lone Mountain Road | +1728
Wash T5N-R3W-S24E | At the downstream side of Wildcat Drive | +1632 | Unincorporated Areas of Maricopa County.
| Approximately 1.1 miles upstream of Dove Valley Road | +1760
Wittman Wash | At the downstream side of the 203rd Avenue Bypass | +1554 | Unincorporated Areas of Maricopa County.
| Approximately 2.5 miles upstream of Center Street | +1827
Wittman Wash North Split | Approximately 200 feet upstream of the Wittman Wash confluence | +1684 | Unincorporated Areas of Maricopa County.
| At the Wittman Wash divergence | +1697
Wittman Wash South Split | At the upstream side of the 203rd Avenue Bypass | +1551 | Unincorporated Areas of Maricopa County.
| Approximately 1,200 feet upstream of West Peakview Road | +1588
Wittman Wash Tributary | Approximately 1,200 feet upstream of the Wittman Wash confluence | +1714 | Unincorporated Areas of Maricopa County.
| Approximately 1,200 feet upstream of West Peakview Road | +1588
Wittman Wash Tributary | Approximately 1,200 feet upstream of the Wittman Wash confluence | +1714 | Unincorporated Areas of Maricopa County.
| Approximately 0.6 mile upstream of West Galvin Street | +1824
* National Geodetic Vertical Datum.
+ North American Vertical Datum.
# Depth in feet above ground.
‸ Mean Sea Level, rounded to the nearest 0.1 meter.
ADDRESSES
City of Peoria
Maps are available for inspection at 8401 West Monroe Street, Peoria, AZ 85345.
City of Phoenix
Maps are available for inspection at 200 West Washington Street, 7th Floor, Phoenix, AZ 85003.
City of Scottsdale
Maps are available for inspection at 3939 North Drinkwater Boulevard, Scottsdale, AZ 85251.
Town of Buckeye
Maps are available for inspection at 530 East Monroe Avenue, Buckeye, AZ 85326.
Town of Carefree
Maps are available for inspection at 8 Sundial Circle, Carefree, AZ 85377.
Town of Surprise
Maps are available for inspection at 16000 North Civic Center Plaza, Surprise, AZ 85374.
Unincorporated Areas of Maricopa County
Maps are available for inspection at 2801 West Durango Street, Phoenix, AZ 85003.
Muhlenberg County, Kentucky, and Incorporated Areas | Docket No.: FEMA-B-1095
Brier Creek (backwater effects from Green River) | From the confluence with Pond River to approximately 1,390 feet downstream of Phillips Town Road | +389 | Unincorporated Areas of Muhlenberg County.
Caney Creek | Approximately 0.5 mile upstream of North Main Street | +413 | City of Greenville, Unincorporated Areas of Muhlenberg County.
| At the Caney Creek Tributary 27 confluence | +423
Caney Creek Tributary 27.1 (backwater effects from Caney Creek) | From the Caney Creek confluence to approximately 0.7 mile upstream of the Caney Creek confluence | +424 | City of Greenville, Unincorporated Areas of Muhlenberg County.
Caney Creek Tributary 31 (backwater effects from Caney Creek) | From the Caney Creek confluence to approximately 0.6 mile upstream of the Caney Creek confluence | +413 | Unincorporated Areas of Muhlenberg County.
Canfield Branch (backwater effects from Green River) | From the Mud River confluence to approximately 340 feet upstream of Forest Oak Church Road | +404 | Unincorporated Areas of Muhlenberg County.
Cypress Creek (backwater effects from Green River) | From approximately 0.6 mile downstream of KY-175 to approximately 0.7 mile upstream of KY-81 | +393 | Unincorporated Areas of Muhlenberg County.
Cypress Creek Tributary 1 (backwater effects from Green River) | From the Cypress Creek confluence to approximately 0.8 mile upstream of Coffman Schoolhouse Road | +393 | Unincorporated Areas of Muhlenberg County.
Green River | At the confluence with Mud River | +393 | City of South Carrollton, Unincorporated Areas of Muhlenberg County.
| Approximately 2.6 miles upstream of CSX Railroad | +404
Irwin Creek (backwater effects from Green River) | From the Isaacs Creek confluence to approximately 2,000 feet upstream of the Isaacs Creek confluence | +389 | Unincorporated Areas of Muhlenberg County.
Isaacs Creek (backwater effects from Green River) | From the Green River confluence to approximately 1,035 feet upstream of the Irwin Creek confluence | +389 | Unincorporated Areas of Muhlenberg County.
Jacobs Creek (backwater effects from Green River) | From the Green River confluence to approximately 2.0 miles upstream of Riverside Road | +402 | Unincorporated Areas of Muhlenberg County.
Jacobs Creek Tributary 7 (backwater effects from Green River) | From the Jacobs Creek confluence to approximately 370 feet upstream of Riverside Road | +402 | Unincorporated Areas of Muhlenberg County.
Little Cypress Creek | Approximately 190 feet upstream of West Whitmer Street | +405 | Unincorporated Areas of Muhlenberg County, City of Central City.
| Just upstream of Front Street | +408
Little Cypress Creek Tributary 16 (backwater effects from Little Cypress Creek) | From the Little Cypress Creek confluence to approximately 2,507 feet upstream of the Little Cypress Creek confluence | +405 | City of Central City, Unincorporated Areas of Muhlenberg County.
Little Cypress Creek Tributary 8 (backwater effects from Little Cypress Creek) | From the Little Cypress Creek confluence to approximately 1,100 feet upstream of the Little Cypress Creek confluence | +422 | Unincorporated Areas of Muhlenberg County.
Log Creek (backwater effects from Green River) | From the Pond River confluence to approximately 3,900 feet upstream of Millport Sacramento Road | +389 | Unincorporated Areas of Muhlenberg County.
Mud River (backwater effects from Green River) | From the Green River confluence to approximately 535 feet upstream of the Canfield Branch confluence | +404 | Unincorporated Areas of Muhlenberg County.
Muddy Fork (backwater effects from Green River) | From the Cypress Creek confluence to approximately 0.8 mile upstream of the Cypress Creek confluence | +393 | Unincorporated Areas of Muhlenberg County.
Nelson Creek (backwater effects from Green River) | From the Green River confluence to approximately 0.4 mile upstream of Green River Haul Road | +398 | Unincorporated Areas of Muhlenberg County.
Opossum Run (backwater effects from Sandlick Creek) | From the Sandlick Creek confluence to approximately 1,175 feet upstream of Opossum Lane | +430 | Unincorporated Areas of Muhlenberg County.
Plum Creek (backwater effects from Green River) | From the Pond Creek confluence to approximately 300 feet downstream of the Plum Creek Tributary 4 confluence | +401 | City of Drakesboro, Unincorporated Areas of Muhlenberg County.
Plum Creek Tributary 5 (backwater effects from Green River) | From the Plum Creek confluence to approximately 0.65 mile upstream of the Plum Creek confluence | +401 | Unincorporated Areas of Muhlenberg County.
Pond Creek (backwater effects from Green River) | From the Green River confluence to approximately 1,280 feet upstream of I-431 | +401 | Unincorporated Areas of Muhlenberg County.
Pond Creek (backwater effects from Sandlick Creek) | From the Sandlick Creek confluence to just downstream of Johnson Road | +421 | Unincorporated Areas of Muhlenberg County.
Pond Creek Tributary 29 (Backwater effects from Green River) | From the Pond Creek confluence to approximately 1,000 feet upstream of KY-2107 | +401 | Unincorporated Areas of Muhlenberg County.
Pond Creek Tributary 30 (backwater effects from Green River) | From the Pond Creek confluence to approximately 1.4 miles upstream of the Pond Creek confluence | +401 | Unincorporated Areas of Muhlenberg County.
Pond River (backwater effects from Green River) | From the Green River confluence to approximately 1.0 mile upstream of KY-70 | +389 | Unincorporated Areas of Muhlenberg County.
Sandlick Creek Tributary 2 (backwater effects from Sandlick Creek) | From the Sandlick Creek confluence to approximately 1,600 feet upstream of the Sandlick Creek confluence | +449 | Unincorporated Areas of Muhlenberg County.
* National Geodetic Vertical Datum. +North American Vertical Datum. #Depth in feet above ground. ‸Mean Sea Level, rounded to the nearest 0.1 meter.
ADDRESSES
City of Central City
Maps are available for inspection at City Hall, 214 North 1st Street, Central City, KY 42330.
City of Drakesboro
Maps are available for inspection at City Hall, 212 West Mose Rager Boulevard, Drakesboro, KY 42337.
City of Greenville
Maps are available for inspection at City Hall, 118 Court Street, Greenville, KY 42345.
City of South Carrollton
Maps are available for inspection at City Hall, 10515 U.S. Route 431, South Carrollton, KY 42374.
Unincorporated Areas of Muhlenberg County
Maps are available for inspection at the Muhlenberg County Judicial Building, 136 South Main Street, Greenville, KY 42345.

(Catalog of Federal Domestic Assistance No. 97.022, “Flood Insurance.”)

Dated: June 3, 2013.
Roy E. Wright,
Deputy Associate Administrator for Mitigation, Department of Homeland Security, Federal Emergency Management Agency.

[FR Doc. 2013-14292 Filed 6-14-13; 8:45 am]

BILLING CODE 9110-12-P